INTERNATIONAL TRADE COMMISSION

[Inv. No. 337-TA-1184]

Certain Shaker Screens for Drilling Fluids, Components Thereof, and Related Marketing Materials; Institution of Investigation

AGENCY: U.S. International Trade Commission.

ACTION: Notice.

SUMMARY: Notice is hereby given that a complaint was filed with the U.S. International Trade Commission on October 18, 2019, under section 337 of the Tariff Act of 1930, as amended, on behalf of M-I L.L.C. of Houston, Texas. An amended complaint was filed on November 7, 2019. The amended complaint alleges violations of section 337 based upon the importation into the United States, the sale for importation, and the sale within the United States after importation of certain shaker screens for drilling fluids, components thereof, and related market materials by reason of infringement of: (1) Certain claims of U.S. Patent No. 7,210,582 (“the '582 patent”); U.S. Patent No. 7,810,649 (“the '649 patent”); and U.S. Patent No. 8,925,735 (“the '735 patent”); and (2) U.S. Trademark Registration No. 2,151,736 (“the '736 trademark”) and U.S. Trademark Registration No. 2,744,891 (“the '891 trademark”). The amended complaint further alleges that an industry in the United States exists as required by the applicable Federal Statute.

The complainant requests that the Commission institute an investigation and, after the investigation, issue a general exclusion order, or in the alternative a limited exclusion order, and cease and desist orders.

ADDRESSES: The amended complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2019).

Scope of Investigation: Having considered the amended complaint, the U.S. International Trade Commission, on November 15, 2019, ordered that—

(1) Pursuant to subsection (b) of section 337 of the Tariff Act of 1930, as amended, an investigation be instituted to determine:

(a) Whether there is a violation of subsection (a)(1)(B) of section 337 in the importation into the United States, the sale for importation, or the sale within the United States after importation of certain products identified in paragraph (2) by reason of infringement of one or more of claims 1-12 of the '582 patent; claims 1-7 and 9 of the '649 patent; and claims 1-9, 12, 13, and 16-19 of the '735 patent; and whether an industry in the United States exists as required by subsection (a)(2) of section 337; and

(b) whether there is a violation of subsection (a)(1)(C) of section 337 in the importation into the United States, the sale for importation, or the sale within the United States after importation of certain products identified in paragraph (2) by reason of infringement of one or more of the '736 trademark and the '891 trademark, and whether an industry in the United States exists as required by subsection (a)(2) of section 337;

(2) Pursuant to section 210.10(b)(1) of the Commission's Rules of Practice and Procedure, 19 CFR 210.10(b)(1), the plain language description of the accused products or category of accused products, which defines the scope of the investigation, is “sifting screens (commonly referred to as `shaker screens') that are fitted into drilling mud shakers (also referred to as `shale shakers') to separate solids from liquid drilling muds brought up from down-hole when drilling for oil and gas, components thereof including the rigid frame over which the wire mesh sieving screen may be fitted, and related marketing materials”;

(3) For the purpose of the investigation so instituted, the following are hereby named as parties upon which this notice of investigation shall be served:

(a) The complainant is: M-I L.L.C., 5950 N. Course Drive, Houston, TX 77072.

(b) The respondents are the following entities alleged to be in violation of section 337, and is/are the parties upon which the amended complaint is to be served:

Hebei GN Solids Control Co., Ltd., No. 3 Industry Road, Dachang Chaobai River Development Area, Langfang, China 065300

GN Solids America LLC, 6710 Windfern Road, Houston, TX 77040

Anping Shengjia Hardware Mesh Co., Ltd., Huangcheng Industrial Zone, Anping County, Hengshui City, China 053600

Hebei Hengying Wire Cloth Co., Ltd., No. 17 Jing Wu Road, High and New Tech Development Zone, Anping County, Hebei Province, China 053600

Xi'an Brightway Energy Equipment Co., Ltd., Jinye Road, City Gate Block D, 12th Floor, Suite 1206, Xi'an City, High Tech Development Zone, China 710065

Brightway Solids Control Co., Ltd., 5855 Sovereign Drive, Suite A, Houston, TX 77036

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the Administrative Law Judge and the Commission, without further notice to the respondent, to find the facts to be as alleged in the amended complaint and this notice and to enter an initial determination and a final determination containing such findings, and may result in the issuance of an exclusion order or a cease and desist order or both directed against the respondent.

By order of the Commission.
Issued: November 18, 2019.
William Bishop,
Supervisory Hearings and Information Officer.

[FR Doc. 2019-25277 Filed 11-20-19; 8:45 am]

BILLING CODE 7020-02-P